ENVIRONMENTAL PROTECTION AGENCY

40 CFR Part 141

[EPA-HQ-OW-2012-0155; FRL-9918-96-OW]

Notice of Public Meeting and Webinar: Preliminary Regulatory Determinations for the Third Contaminant Candidate List

AGENCY: Environmental Protection Agency.

ACTION: Notice of public meeting on potential rulemaking.

SUMMARY: The U.S. Environmental Protection Agency (EPA) is announcing a public meeting and webinar to discuss the agency's preliminary determinations on whether or not to develop drinking water regulations for five unregulated contaminants listed on the third Contaminant Candidate List (CCL3). The EPA published and requested public comment on its preliminary regulatory determinations of these five contaminants in the Federal Register (FR) on October 20, 2014. In that FR document, the agency announced its preliminary determinations to regulate one contaminant (i.e., strontium) and to not regulate four contaminants (i.e., 1,3-dinitrobenzene, dimethoate, terbufos and terbufos sulfone). On December 9, 2014, EPA will hold a public meeting and webinar to present and solicit public input on the process to identify, and the information used to evaluate, contaminants for the third Regulatory Determination effort; and the preliminary regulatory determinations for the aforementioned five unregulated contaminants listed on CCL3, including the supporting rationale for these determinations.

DATES: The public meeting and webinar will be held on Tuesday, December 9, 2014, from 1 p.m. to 5 p.m., eastern time. Persons wishing to attend the meeting in person or online via webinar must register by December 2, 2014, as described in the SUPPLEMENTARY INFORMATION section.

ADDRESSES: The public meeting will be held at The Cadmus Group, Inc., third floor conference room, located at 1555 Wilson Blvd., Suite 300, Arlington, VA 22209. All attendees must show government-issued photo identification (e.g., a driver's license) when signing in. This meeting will also be simultaneously broadcast as a webinar, available on the Internet.

FOR FURTHER INFORMATION CONTACT: Members of the public who wish to receive further information about the meeting and webinar or have questions about this notice should contact Ali Arvanaghi, Standards and Risk Management Division, Office of Ground Water and Drinking Water, Environmental Protection Agency, 1200 Pennsylvania Avenue NW., Mail Code 4607M, Washington, DC 20460; telephone number: (202) 564-1260; email address: arvanaghi.ali@epa.gov.

SUPPLEMENTARY INFORMATION:

I. General Information

A. How may I participate in this meeting?

Persons wishing to attend the meeting in person or online via the webinar must register in advance no later than 5 p.m., eastern time on December 2, 2014, by sending an email to RD3Webinar@cadmusgroup.com. Those who wish to attend should indicate in the email whether they intend to attend in person or via the webinar. The number of seats and webinar connections available for the meeting is limited and will be available on a first-come, first-served basis. The agenda for the public meeting and webinar will include time for public involvement and will allow for questions and answers or comments about the agency's third Regulatory Determination process and its preliminary regulatory determinations. If individuals or organizations are interested in making a more in-depth statement or presenting information, that interest should be mentioned when registering for the meeting. All statements or presentation materials should be emailed to RD3Webinar@cadmusgroup.com by December 2, 2014, so that the information can be incorporated into the webinar. We ask that only one person present the statement on behalf of a group or organization, and that the statement be limited to five minutes. Any additional comments, statements or information from attendees will be taken if time permits during the meeting or can be sent to RD3Webinar@cadmusgroup.com after the meeting, but before the close of the public comment period for the October 20, 2014, FR notice (79 FR 62716). It is important to remember that formal comments about the EPA's Preliminary Regulatory Determinations for Contaminants on the Third Drinking Water Contaminant Candidate List should be submitted to the docket (EPA-HQ-OW-2012-0155), as instructed in the October 20, 2014, FR notice, before the close of the public comment period on December 19, 2014.

B. How can I get a copy of the meeting and webinar materials?

The 508-compliant meeting materials will be sent by email to the registered attendees prior to the meeting. Information about registration and participation in the public meeting and webinar can be found on the EPA's Contaminant Candidate List 3 Web site: http://water.epa.gov/scitech/drinkingwater/dws/ccl/ccl3.cfm.

II. Background

The 1996 Safe Drinking Water Act Amendments require EPA to determine whether to regulate at least five unregulated contaminants from the current Contaminant Candidate List (CCL) with national primary drinking water regulations every five years. The process of making decisions about whether to regulate any of the CCL unregulated contaminants is called Regulatory Determination. On October 8, 2009 (74 FR 51850), EPA published the CCL3 containing 116 unregulated contaminants. On October 20, 2014 (79 FR 62716), EPA announced and solicited public comment on its preliminary determinations to regulate one contaminant (i.e., strontium) and to not regulate four contaminants (i.e., 1,3-dinitrobenzene, dimethoate, terbufos and terbufos sulfone). The public comment period for the October 20, 2014, FR announcement, Preliminary Regulatory Determinations for Contaminants on the Third Drinking Water Contaminant Candidate List, closes on December 19, 2014. After considering public comments and any additional information, EPA expects to publish the final, third Regulatory Determination in late 2015.

Dated: October 31, 2014.
Peter Grevatt,
Director, Office of Ground Water and Drinking Water.

[FR Doc. 2014-26573 Filed 11-12-14; 8:45 am]

BILLING CODE 6560-50-P